DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Economic Survey Schedule (WH-1). A copy of the proposed information collection request can be obtained by contacting the office listed below in the addresses section of this Notice.

DATES: Written comments must be submitted to the office listed in the addresses section below on or before April 17, 2006.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION:

Background

Fair Labor Standards Act (FLSA), 29 U.S.C. 201 et seq., §§ 5, 6(a)(3) and 8 provide that covered, non-exempt employees in America Samoa may be paid at minimum wage rates established by a Special Industry Committee, in lieu of the general federal minimum wage specified in § 6(a)(1) of the Act. The FLSA requires the Committee to recommend to the Secretary of Labor the highest minimum wage rate—not to exceed the rate required under FLSA § 6(a)(1)—that it determines, having due regard to economic and competitive conditions, will not substantially curtail employment in the industry and will not give any industry in America Samoa a competitive advantage over any industry in the U.S. outside of America Samoa. The Committee must consider competitive conditions as affected by transportation, living and production costs; the wages established by collective bargaining agreements in various industries; and wages paid by employers who voluntarily maintain minimum wage standards. FLSA § 5(d) requires the Secretary of Labor to provide data on the matters the Committee will consider. Regulations 29 CFR 511.6 and 511.11 require the Administrator of the Wage and Hour Division (WHD) of DOL prepare for the Committee an economic report containing data pertinent to establishing industry minimum wage rates in America Samoa. WHD uses Form WH-1, Economic Survey Schedule, to gather the information necessary to prepare the economic report. This information collection is currently approved for use through August 31, 2006.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for the extension of this information collection in order to gather information necessary to prepare the required economic report used by the Committee to set industry wage rates in America Samoa.

Type of Review: Extension.

Agency: Employment Standards Administration.

Title: Economic Survey Schedule.

OMB Number: 1215-0028.

Agency Number: WH-1.

Affected Public: Business or other for-profit; State, Local or Tribal Government.

Total Respondents: 67.

Total Responses: 67.

Time per Response: 45 minutes.

Frequency: Biennially.

Estimated Total Burden Hours: 50.

Total Burden Cost (capital/startup): $0.

Total Burden Cost (operating/maintenance): $0.

Comments submitted in response to this notice will be summarized and/or included in the request for Office of Management and Budget approval of the information collection request; they will also become a matter of public record.

Dated: February 8, 2006.
Sue Blumenthal,
Acting Chief, Branch of Management Review and Internal Control, Division of Financial Management, Office of Management, Administration and Planning, Employment Standards Administration.

[FR Doc. E6-2067 Filed 2-13-06; 8:45 am]

BILLING CODE 4510-27-P